DEPARTMENT OF THE INTERIOR

Bureau of Indian Affairs

Land Acquisitions; Osage Nation of Oklahoma

AGENCY: Bureau of Indian Affairs, Interior.

ACTION: Notice of final agency determination.

SUMMARY: The Assistant Secretary—Indian Affairs made a final agency determination to acquire approximately 7.5 acres of land, known as the Skiatook Parcel, into trust for the Osage Nation of Oklahoma on July 8, 2011.

FOR FURTHER INFORMATION CONTACT: Paula L. Hart, Director, Office of Indian Gaming, Bureau of Indian Affairs, MS-3657 MIB, 1849 C Street, NW., Washington, DC 20240; Telephone (202) 219-4066.

SUPPLEMENTARY INFORMATION: This notice is published in the exercise of authority delegated by the Secretary of the Interior to the Assistant Secretary—Indian Affairs by 209 Departmental Manual 8.1 and is published to comply with the requirements of 25 CFR part 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On July 8, 2011, the Assistant Secretary—Indian Affairs decided to accept approximately 7.5 acres of land into trust for the Osage Nation of Oklahoma under the authority of the Indian Reorganization Act of 1934, 25 U.S.C. 465. The 7.5 acres are located within the former reservation boundaries of the Osage Nation in Osage County, Oklahoma. The parcel is currently used for gaming.

The 7.5 acre parcel located in Osage County, Oklahoma is described as follows:

A tract of land lying in the SE/4 NE/4 of Section 19, Township 22 North, Range 12 East, of the Indian Meridian, Osage County, Oklahoma, more particularly described as follows: Commencing at the Southwest Corner of the SE/4 NE/4 of Section 19; thence N0°03′32″ W along the West line of the SE/4 NE/4 a distance of 46.44 feet to a point intersecting the North Right-Of-Way line of Oklahoma State Highway No. 20 and the Point of Beginning. Thence continuing N0°03′32″ W a distance of 442.25 feet; thence S89°52′15″ E a distance of 738.93 feet; thence S0°01′46″ E a distance of 442.25 feet to the point on the North right-of-way line of said Highway 20; thence N89°52′15″ W along said right-of-way line a distance of 738.71 feet to the Point of Beginning.

Containing 7.5 acres, more or less. SURFACE ONLY

Dated: July 8, 2011.
Larry Echo Hawk,
Assistant Secretary—Indian Affairs.

[FR Doc. 2011-18072 Filed 7-18-11; 8:45 am]

BILLING CODE 4310-4N-P